DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended, (19 U.S.C. 1641) and the Customs Regulations (19 CFR 111.51), the following Customs broker licenses and all associated permits are cancelled without prejudice.

Name | License No. | Issuing port
Clayton International Forwarders, Inc | 14510 | Atlanta.
World Trade Cargo & Logistics | 13327 | Dallas.
James O. Lindsey Co., Ltd | 07951 | Los Angeles.
Kashmira Vijaiyan | 16815 | Los Angeles.
Modawest International, Inc | 11605 | Los Angeles.
Rohde & Liesenfeld, Inc | 10499 | New York.
Paul Martin Schlechter CHB, Inc | 04842 | New York.

Dated: January 15, 2009.
Daniel Baldwin,
Assistant Commissioner, Office of International Trade.

[FR Doc. E9-2068 Filed 1-30-09; 8:45 am]

BILLING CODE 9111-14-P